DEPARTMENT OF AGRICULTURE

National Agricultural Statistics Service

Notice of Intent To Reinstate a Previously Approved Information Collection

AGENCY: National Agricultural Statistics Service, USDA.

ACTION: Notice and request for comments.

SUMMARY: In accordance with the Paperwork Reduction Act of 1995 (Pub. L. No. 104-13) and Office of Management and Budget regulations at 5 CFR part 1320 (60 FR 44978, August 29, 1995), this notice announces the intention of the National Agricultural Statistics Service (NASS) to request reinstatement of a previously approved information collection, the 2002 Census of Agriculture.

DATES: Comments on this notice must be received by August 8, 2001 to be assured of consideration.

ADDITIONAL INFORMATION OR COMMENTS: Contact Rich Allen, Associate Administrator, National Agricultural Statistics Service, U.S. Department of Agriculture, Room 4117 South Building, 1400 Independence Avenue SW, Washington, D.C. 20250-2000, (202) 720-4333.

SUPPLEMENTARY INFORMATION: Title: The 2002 Census of Agriculture.

OMB Control Number: 0535-0226.

Type of Request: Intent to Request Reinstatement of a Previously Approved Information Collection.

Abstract: The census of agriculture is the primary source of statistics concerning the nation's agricultural industry. It provides the only basis of consistent, comparable data for each county, county equivalent, and State in the United States and its outlying insular areas. The census is conducted every 5 years, the last one being for 1997. The 2002 census of agriculture will again cover all agricultural operations in the 50 States, Puerto Rico, Guam, the U.S. Virgin Islands, and the Commonwealth of Northern Mariana Islands (CNMI) which meet the census definition for a farm. For the States, Guam, and CNMI, a farm is any place that produced and sold, or normally would produce and sell, $1,000 or more of agricultural products during the census year. For Puerto Rico and the U.S. Virgin Islands it is any place with $500 in sales.

Data collection for the censuses of agriculture for the 50 States and Puerto Rico will be conducted primarily by mail-out/mail-back procedures. Data collection for Guam, the U.S. Virgin Islands, and CNMI will be conducted using direct enumeration methods. NASS conducted a census form content test (OMB #5035-0243) during the winter of 2000-2001 to evaluate new content items, report form design and format, and processing procedures.

To minimize respondent burden, NASS limits the items asked on 75 percent of the report forms to the basic subjects asked in the previous census, such as land use and ownership, crop acreage and production, grain storage, livestock and poultry inventories, federal farm program payments, income from farm-related sources, and operator characteristics. The other 25 percent of report forms include additional questions on hired labor, production expenses, fertilizer and chemical usage, machinery and equipment, and market value of land and buildings. Report forms are tailored to various regions of the country to further reduce burden. A screening survey, conducted prior to the census, will enable NASS to eliminate non-farm operations from the census mail list and determine respondent eligibility for receiving the appropriate census mail package. The census of agriculture is required by law under the “Census of Agriculture Act of 1997,” Pub. L. No. 105-113(7 U.S.C. 2204(g)). The law guarantees farm operators that their individual information will be kept confidential. NASS uses the information only for statistical purposes and publishes only tabulated total data. These data are used by Congress when developing or changing farm programs. Many national and state programs are designed or allocated based on census data, i.e., soil conservation projects, funds for cooperative extension programs, and research funding. Private industry uses the data to provide more effective production and distribution systems for the agricultural community.

Estimate of Burden: Public reporting burden for this collection of information will be about 24 minutes per response from all sources.

Respondents: Farm and ranch operators.

Estimated Number of Respondents: 3,550,000.

Estimated Total Annual Burden on Respondents: 1,450,000 hours.

Copies of this information collection and related instructions can be obtained without charge from Ginny McBride, the Agency OMB Clearance Officer, at (202) 720-5778.

Comments: Comments are invited on: (a) Whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, including through the use of appropriate automated, electronic, mechanical, or other technological collection techniques or other forms of information technology. Comments may be sent to: Ginny McBride, Agency OMB Clearance Officer, U.S. Department of Agriculture, Room 5330B South Building, 1400 Independence Avenue SW, Washington, DC 20250-2009 or gmcbride@nass.usda.gov.

All responses to this notice will become a matter of public record and be summarized in the request for OMB approval.

Signed at Washington, DC, May 1, 2001.
Rich Allen,
Associate Administrator.

[FR Doc. 01-13911 Filed 6-1-01; 8:45 am]

BILLING CODE 3410-20-P